DEPARTMENT OF HOMELAND SECURITY

Coast Guard

33 CFR Part 165

[Docket No. USCG-2012-0339]

Safety Zones; Fireworks Displays in the Sector Columbia River Captain of the Port Zone Columbia River Zone

AGENCY: Coast Guard, DHS.

ACTION: Notice of enforcement of regulation.

SUMMARY: The Coast Guard will enforce the safety zones listed in this notice for fireworks displays in the Sector Columbia River Captain of the Port Zone from May 2013 until October 2013. This action is necessary to ensure the safety of the crews onboard the vessels displaying the fireworks, the maritime public, and all other observers. During the enforcement period for each specific safety zone, no person or vessel may enter or remain in the safety zone without permission of the Sector Columbia River Captain of the Port or his designated representatives.

DATES: The regulations in 33 CFR 165.1315 will be enforced at the dates and times listed in the SUPPLEMENTARY INFORMATION section below.

FOR FURTHER INFORMATION CONTACT: If you have questions on this notice, call or email Ensign Ian P. McPhillips, Waterways Management Division, MSU Portland, Coast Guard; telephone 503-240-9319, email MSUPDXWWM@uscg.mil.

SUPPLEMENTARY INFORMATION: The Coast Guard will enforce the safety zone regulations in 33 CFR 165.1315 for fireworks displays in the Columbia River Captain of the Port Zone during the dates and times listed below:

(1) Cinco de Mayo Fireworks Display, Portland, OR: May 3, 2013 from 9:30 p.m. until 10 p.m.

(2) Portland Rose Festival Fireworks Display, Portland OR: May 24, 2013, from 10 p.m. until 10:30 p.m.

(3) Tri-City Chamber of Commerce Fireworks Display, Columbia Park, Kennewick, WA: July 4, 2013, from 10 p.m. until 10:30 p.m.

(4) Cedco Inc. Fireworks Display, North Bend, OR: July 3, 2013, from 10:10 p.m. until 10:30 p.m.

(5) Astoria 4th of July Fireworks, Astoria, OR: July 4, 2013, from 10 p.m. until 10:30 p.m.

(6) Waterfront Blues Festival Fireworks, Portland, OR: July 4, 2013, from 10 p.m. until 10:30 p.m.

(7) Oregon Symphony Concert Fireworks Display, Portland, OR: August 29, 2013, from 9:30 p.m. until 10 p.m.

(8) Florence Chamber 4th of July Fireworks Display, Florence, OR: July 4, 2013, from 10 p.m. until 10:30 p.m.

(9) Oaks Parks July 4th Celebration, Portland, OR: July 4, 2013, from 10 p.m. until 10:30 p.m.

(10) Rainier Days Fireworks Celebration, Rainier, OR: July 13, 2013, from 10 p.m. until 10:30 p.m.

(11) Ilwaco July 4th Committee Fireworks, Ilwaco, WA: July 6, 2013, from 10 p.m. until 10:30 p.m.

(12) Splash Aberdeen Waterfront Festival, Aberdeen, WA: July 4, 2013, from 9 p.m. until 11 p.m.

(13) City of Coos Bay July 4th Celebration, Coos Bay, OR: July 4, 2013, from 10 p.m. until 10:30 p.m.

(14) Arlington Chamber of Commerce Fireworks Display, Arlington, OR: July 4, 2013, from 10 p.m. until 10:30 p.m.

(15) Cascade Locks July 4th Fireworks Display, Portland, OR: July 4, 2013, from 10 p.m. until 10:30 p.m.

(16) Astoria Regatta Association Fireworks Display, Astoria, OR: August 10, 2013, from 10 p.m. until 10:30 p.m.

(17) City of Washougal July 4th Fireworks Display, Washougal, WA: July 4, 2013, from 10 p.m. until 10:30 p.m.

(18) City of St. Helens 4th of July Fireworks Display, St. Helens, OR: July 4, 2013, from 9:30 p.m. until 10:30 p.m.

(19) Waverley Country Club 4th of July Fireworks Display, Milwaukie, OR: July 4, 2013, from 10 p.m. until 10:30 p.m.

(20) Hood River 4th of July, Hood River, OR: July 4, 2013, from 10 p.m. until 10:30 p.m.

(21) Rufus 4th of July Fireworks, Rufus, OR: July 4, 2013, from 9:30 p.m. until 10:30 p.m.

Under the provisions of 33 CFR 165.1315, 33 CFR 165.20, and 33 CFR 165.23, no person or vessel may enter or remain in the safety zones without permission of the Captain of the Port Columbia River or his designated representative. Persons or vessels wishing to enter the safety zones may request permission to do so from the Captain of the Port Columbia River or his designated representative via VHF Channel 16 or 13. The Coast Guard may be assisted by other Federal, State, or local enforcement agencies in enforcing this regulation.

This notice is issued under authority of 33 CFR 165.1315 and 5 U.S.C. 552(a). In addition to this notice in the Federal Register, the Coast Guard will provide the maritime community with notification of this enforcement period via the Local Notice to Mariners.

Dated: April 30, 2013.
B.C. Jones,
Captain, U.S. Coast Guard, Captain of the Port, Sector Columbia River.

[FR Doc. 2013-11613 Filed 5-15-13; 8:45 am]

BILLING CODE 9110-04-P